ENVIRONMENTAL PROTECTION AGENCY

[FRL-6992-8]

Agency Information Collection Activities; Submission for OMB Review; Comment Request; TSCA Section 8(a) Preliminary Assessment Information Rule

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: TSCA Section 8(a) Preliminary Assessment Information Rule [EPA ICR No. 0586.09; OMB Control No. 2070-0054]. The ICR, which is abstracted below, describes the nature of the information collection and its estimated cost and burden. The Federal Register document required under 5 CFR 1320.8(d), soliciting comments on this collection of information, was published on December 8, 2000 (65 FR 77022). EPA received one comment, which has been addressed in this ICR.

DATES: Additional comments may be submitted on or before July 9, 2001.

FOR FURTHER INFORMATION CONTACT: Sandy Farmer by phone on (202) 260-2740 or by e-mail: “farmer.sandy@epa.gov.” You may also access the ICR via Internet at http://www.epa.gov/icr/icr.htm. Refer to EPA ICR No. 0586.09 and/or OMB Control No. 2070-0054.

ADDRESSES: Send comments, referencing EPA ICR No. 0586.09 and OMB Control No. 2070-0054, to the following addresses: Sandy Farmer, U.S. Environmental Protection Agency, Collection Strategies Division (Mail Code: 2822), 1200 Pennsylvania Avenue, NW., Washington, DC 20460; and to: Office of Information and Regulatory Affairs, Office of Management and Budget (OMB), Attention: Desk Officer for EPA, 725 17th Street, NW., Washington, DC 20503.

SUPPLEMENTARY INFORMATION: Title: TSCA Section 8(a) Preliminary Assessment Information Rule (OMB Control No. 2070-0054; EPA ICR No. 0586.09). This is a request for extension of an existing approved collection that is currently scheduled to expire on May 31, 2001. Under 5 CFR 1320.10(e)(2), the Agency may continue to conduct or sponsor the collection of information while the submission is pending at OMB.

Abstract: Section 8(a) of the Toxic Substances Control Act (TSCA) authorizes EPA to promulgate rules under which manufacturers, importers and processors of chemical substances must maintain records and submit reports to EPA. Promulgated under TSCA section 8(a), EPA uses the Preliminary Assessment Information Rule (PAIR) (40 CFR part 712) to collect information to identify, assess and manage human health and environmental risks from chemicals. PAIR requires chemical manufacturers and importers to complete a standardized reporting form to help evaluate the potential for adverse human health and environmental effects caused by the manufacture or importation of identified chemicals. Chemicals for which a justifiable information need for production, use or exposure-related data can be satisfied by the use of the PAIR, are identified individually for one-time reporting under PAIR. In addition to EPA, other federal agencies may demonstrate a justifiable information need, and EPA will identify the chemical for reporting under PAIR. In most instances the information that EPA receives from a PAIR report is sufficient to satisfy the information need in question.

Responses to the collection of information are mandatory. Respondents may claim all or part of a notice confidential. EPA will disclose information that is covered by a claim of confidentiality only to the extent permitted by, and in accordance with, the procedures in TSCA section 14 and 40 CFR part 2. An agency may not conduct or sponsor, and a person is not required to respond to, a collection of information unless it displays a currently valid OMB control number. The OMB control numbers for EPA's regulations are listed in 40 CFR part 9 and 48 CFR Chapter 15.

Burden Statement: The annual public reporting burden for this collection of information is estimated to be 28.45 hours per report. The Agency assumes that respondents will submit an average of 2.44 reports annually, for a per respondent burden of 69.41 hours. Burden means the total time, effort or financial resources expended by persons to generate, maintain, retain or disclose or provide information to or for a Federal agency. This includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information. The following is a summary of the estimates taken from the ICR:

Respondents/Affected Entities: Manufacturers, importers and processors of chemical substances and mixtures.

Frequency of Collection: One-time, on occasion.

Estimated No. of Respondents: 48.

Estimated Total Annual Burden on Respondents: 3,355 hours.

Estimated Total Annual Costs: $609,116.

Changes in Burden Estimates: The total burden associated with this ICR has decreased from 3,489 hours in the previous ICR to 3,355 hours for this ICR. This adjustment in burden is attributable to carrying through in the burden hour totals the adjustment made to the unit burden of the CBI substantiation requirement, i.e., only 75 percent of sites or reports are expected to make CBI claims. This adjustment was made in the unit burden calculations in the previous ICR but was not carried through in the industry totals. In addition, a few minor mathematical corrections were made to the estimates presented in the previous ICR.

According to the procedures prescribed in 5 CFR 1320.12, EPA has submitted this ICR to OMB for review and approval. Any comments related to the renewal of this ICR should be submitted within 30 days of this notice, as described above.

List of Subjects

Environmental protection, Hazardous substances, Reporting and recordkeeping requirements.

Dated: May 20, 2001.
Oscar Morales,
Director, Collection Strategies Division.

[FR Doc. 01-14478 Filed 6-7-01; 8:45 am]

BILLING CODE 6560-50-P